DEPARTMENT OF ENERGY

Federal Energy Regulatory Commission

[Docket No. EL02-107-002, et al.]

Duke Energy Hinds, LLC, et al.; Electric Rate and Corporate Filings

March 4, 2003.

The following filings have been made with the Commission. The filings are listed in ascending order within each docket classification.

1. Duke Energy Hinds, LLC; Dune Energy Hot Spring, LLC; Duke Energy Southaven, LLC; Duke Energy North America, LLC.; Complainants, v. Entergy Services, Inc.; Entergy Operating Companies, Respondents

[Docket No. EL02-107-002]

Entergy Services, Inc.

[Docket No. ER02-405-005]

Take notice that on February 27, 2003, Entergy Services, Inc., on behalf of Entergy Arkansas, Inc. and Entergy Mississippi, Inc., tendered for filing with the Federal Energy Regulatory Commission (Commission) compliance interconnection and operating agreements with Duke Energy Hinds, LLC, Duke Energy Hot Spring, LLC, and Duke Energy Southaven, LLC, in response to the Commission's January 28, 2003, order in Duke Energy Hinds, LLC, et al., v. Entergy Services, Inc., et al., 102 FERC ¶ 61,068 (2003).

Comment Date: March 20, 2003.

2. Central Hudson Gas & Electric Corporation; Consolidated Edison Company of New York, Inc.; Long Island Lighting Company; New York State Electric & Gas Corporation; Niagara Mohawk Power Corporation; Orange and Rockland Utilities, Inc.; Rochester Gas and Electric Corporation; Power Authority of the State of New York; New York Power Pool

[Docket Nos.ER97-1523-074]

Take notice that on February 27, 2003, Sithe/Independence Power Partners, L.P. (Sithe/Independence) submitted its response to the data requests issued by Commission Staff in this proceeding on January 28, 2003.

Comment Date: March 20, 2003.

3. Tenaska Alabama Partners, L.P.

[Docket No. ER00-840-002]

Take notice that on February 26, 2003, Tenaska Alabama Partners, L.P., (Tenaska Alabama) submitted for filing with the Federal Energy Regulatory Commission its triennial updated market analysis in accordance with Appendix B of the Commission's Order in Madison Gas and Electric Co., 90 FERC¶ 61,115.

Questions concerning this filing may be directed to counsel for Tenaska Alabama, Neil L. Levy, Kirkland & Ellis, 655 Fifteenth Street, NW., Suite 1200, Washington, DC 20005, Phone (202) 879-5116, Fax (202) 879-5200, e-mail Neil_Levy@dc.kirkland.com.

Comment Date: March 19, 2003.

4. Pacific Gas and Electric Company

[Docket Nos. ER00-2360-006]

Take notice that on February 28, 2003, Pacific Gas and Electric Company (PG&E) filed a reliability services refund report in compliance with an Order of the Federal Energy Regulatory Commission, dated August 5, 2002.

PG&E states that copies of this filing have been served upon all parties designated on the official service list in this proceeding and the California Public Utilities Commission.

Comment Date: March 21, 2003.

5. Pacific Gas and Electric Company

[Docket No. ER02-1330-005]

Take notice that on February 28, 2003, Pacific Gas and Electric Company (PG&E) submitted a compliance filing in response to FERC's January 29, 2003 “Order Partially and Fully Granting Rehearing And Partially Granting Complaints”, in this docket in the matter of several Agreements between PG&E and Los Medanos Energy Center LLC (LMEC) providing for Special Facilities and the parallel operation of LMEC's generating facility and the PG&E-owned electric system that is on file with the Commission as Service Agreement No. 8 to PG&E Electric Tariff, Sixth Revised Volume No. 5.

PG&E states that copies of this filing have been served upon LMEC, Calpine Corporation, the California Independent System Operator Corporation, and the California Public Utilities Commission, and the parties to this docket.

Comment Date: March 21, 2003.

6. Entergy Services, Inc.

[Docket No. ER02-2014-007]

Take notice that on February 28, 2003, Entergy Services, Inc., on behalf of the Entergy Operating Companies, Entergy Arkansas, Inc., Entergy Gulf States, Inc., Entergy Louisiana, Inc., Entergy Mississippi, Inc., and Entergy New Orleans, Inc. (collectively Entergy), filed a supplement to its Amended Generator Operating Limit Filing and revisions to proposed Attachment Q to its Open Access Transmission Tariff. Attachment Q addresses local transmission constraints on the Entergy transmission system and provides a process for generators to participate in short-term bulk power markets without the necessity of a system impact study. The supplemental filing addresses, among other things, Entergy's methodology for evaluating short-term network resource designations. Entergy requests that the Commission accept the revised Attachment Q for filing within 60 days, for implementation 30 days after the date of the Commission order accepting Entergy's revised Attachment Q.

Comment Date: March 21, 2003.

7. Sithe/Independence Power Partners, L.P.

[Docket No. ER03-42-002]

Take notice that on February 28, 2003, Sithe/Independence Power Partners, L.P. (Sithe Independence) submitted a revised Tariff No. 1 in order to reflect a change in the language to the February 6, 2003, compliance filing made in Docket No. ER03-42-001 as requested by Commission Staff. Further, Sithe Independence requested that the Commission provide for a shortened notice period for this compliance filing.

Comment Date: March 21, 2003.

8. American Electric Power Company

[Docket No. ER03-95-004]

Take notice that on February 28, 2003, American Electric Power Service Corporation, on behalf of the operating companies of the American Electric Power System (collectively AEP) filed amendments to service agreements under AEP's Open Access Transmission Tariff (OATT) for long-term firm point-to-point transmission service to Duke Energy Trading and Marketing, Inc. The filing was made to correct clerical errors in a February 12, 2003 filing in compliance with the Commission's Order Conditionally Accepting Filing and Denying Waiver of Notice Requirements issued in this docket on December 27, 2003.

AEP states that a copy of the filing was served upon DETM and the public service commissions regulating AEP's operating companies. AEP requests an effective date of June 1, 2002.

Comment Date: March 21, 2003.

9. USP&G (Pennsylvania) Ltd.

[Docket No. ER03-261-002]

Take notice that on February 28, 2003, USP&G (Pennsylvania) Ltd (USP&G) petitioned the Federal Energy Regulatory Commission (Commission) for acceptance of USP&G Rate Schedule FERC No. 1; the granting of certain blanket approvals, including the authority to sell electricity at market-based rates; and the waiver of certain Commission regulations.

USP&G intends to engage in wholesale electric power and energy purchases and sales as a marketer. USP&G is not in the business of generating or transmitting electric power. USP&G is a wholly-owned subsidiary of Petrocom Management Incorporated, which, through its affiliates, markets and trades natural gas, power and clean products.

Comment Date: March 21, 2003.

10. NM Colton Genco LLC

[Docket No. ER03-320-002]

NM Mid-Valley Genco LLC

[Docket No. ER03-321-002]

NM Milliken Genco LLC

[Docket No. ER03-322-002]

Take notice that on February 28, 2003, NM Colton Genco LLC (NM Colton), NM Mid-Valley Genco LLC (NM Mid-Valley) and NM Milliken Genco LLC (NM Milliken ) (together, Applicants), tendered for filing with the Federal Energy Regulatory Commission, a second amendment to the Application of NM Colton Genco LLC, NM Mid-Valley Genco LLC, and NM Milliken Genco LLC for an Order Approving Market Based Rates filed with the Commission on December 23, 2002.

Comment Date: March 21, 2003.

11. Elk Hills Power, LLC

[Docket No. ER03-394-002]

Take notice that on February 28, 2003, Elk Hills Power, LLC (Elk Hills) tendered for filing an amendment to its petition for waivers and blanket approvals under various regulations of the Commission and for an order accepting its FERC Electric Tariff No. 1, originally filed on January 9, 2003 and subsequently amended on January 22, 2003.

Comment Date: March 21, 2003.

12. Mesquite Power, LLC

[Docket No. ER03-427-001]

Take notice that on February 28, 2003, Mesquite Power, LLC (Mesquite) tendered for filing an amendment to its petition for waivers and blanket approvals under various regulations of the Commission and for an order accepting its FERC Electric Tariff No. 1, originally filed on January 17, 2003.

Comment Date: March 21, 2003.

13. ConocoPhillips Company

[Docket No. ER03-428-003]

Take notice that on February 28, 2003, ConocoPhillips Company (ConocoPhillips) tendered for filing an Amended Notice of Succession pursuant to Section 35.16 of the Commission's Regulations. As a result of a name change, ConocoPhillips is succeeding by merger to the tariffs and related service agreements of Conoco Inc., effective December 31, 2002.

Comment Date: March 21, 2003.

14. Midwest Independent Transmission System Operator, Inc.

[Docket No. ER03-555-000]

Take notice that on February 25, 2003, the Midwest Independent Transmission System Operator, Inc. (Midwest ISO) submitted for filing a Notice of Succession of an Agreement dated August 17, 2000 by and between Madison Gas and Electric Company, Wisconsin Public Service Corporation, Wisconsin Power and Light Company and American Transmission Company, LLC.

The Midwest ISO has requested waiver of the sixty (60)-day effective date and has requested an effective date of February 26, 2003 ( one day after filing).

The Midwest ISO states that they have served copies of its filing on all affected customers. In addition, the Midwest ISO has electronically served a copy of this filing, without attachments, upon all Midwest ISO Members, Member representatives of Transmission Owners and Non-Transmission Owners, the Midwest ISO Advisory Committee participants, Policy Subcommittee participants, as well as all state commissions within the region. In addition, the filing has been electronically posted on the Midwest ISO's Web site at http://www.midwestiso.org under the heading “Filings to FERC” for other interested parties in this matter. The Midwest ISO will provide hard copies to any interested parties upon request.

Comment Date: March 18, 2003.

15. Public Service Company of New Hampshire

[Docket No. ER03-569-000]

Take notice that on February 28, 2003, Northeast Utilities Service Company (NUSCO), on behalf of its affiliate, Public Service Company of New Hampshire (PSNH), filed the executed Original Service Agreement No. 95 (the Service Agreement) by and between PSNH and AES Londonderry, LLC (AES) under Northeast Utilities System Companies' Open Access Transmission Tariff No. 9. The Service Agreement is a new agreement that sets forth the terms and conditions for: (I) PSNH's provision of interconnection service to AES's nominal 240-megawatt steam turbine generator (the Generating Facility) located at Londonderry, New Hampshire; and (ii) the construction of certain system upgrades and interconnection facilities necessary for interconnecting the Generating Facility to PSNH's transmission system.

NUSCO states that a copy of this filing has been mailed to AES and that AES fully consents to and supports this filing. NUSCO and AES request an effective date for the Service Agreement of February 26, 2003, and request any waivers of the Commission's regulations that may be necessary to permit such an effective date.

Comment Date: March 21, 2003.

16. Ocean State Power II

[Docket No. ER03-570-000]

Take notice that on February 28, 2003, Ocean State Power II (Ocean State II) tendered for filing revised pages to Rate Schedule FERC Nos. 5-8, which update Ocean State II's rate of return on equity (ROE) with respect to such rate schedules. Ocean State II requests an effective date for the rate schedule changes of April 29, 2003.

Ocean State II states that copies of the Supplements have been served upon, among others, Ocean State II's power purchasers, the Commonwealth of Massachusetts Department of Telecommunications and Energy, and the Rhode Island Public Utilities Commission.

Comment Date: March 21, 2003.

17. Ocean State Power

[Docket No. ER03-571-000]

Take notice that on February 28, 2003, Ocean State Power (Ocean State) tendered for filing revised pages to Rate Schedule FERC Nos. 1-4, which update Ocean State's rate of return on equity (ROE) with respect to such rate schedules. Ocean State requests an effective date for the rate schedule changes of April 29, 2003.

Ocean State states that copies of the Supplements have been served upon, among others, Ocean State's power purchasers, the Commonwealth of Massachusetts Department of Telecommunications and Energy, and the Rhode Island Public Utilities Commission.

Comment Date: March 21, 2003.

18. Pacific Gas and Electric Company

[Docket No. ER03-572-000]

Take notice that on February 28, 2003, Pacific Gas and Electric Company (PG&E) tendered for filing proposed revisions to the Interconnection Agreement (IA) between PG&E and the Sacramento Municipal Utility District (SMUD).

PG&E states that the proposed revisions reflect changes due to SMUD's request to implement upgrades to SMUD's Solano Wind Project. Furthermore, PG&E states that the filing corrects other portions of Appendix E and the rate schedule sheets which follow it, which are necessary to accurately reflect the Reserved Transmission Service that PG&E is currently providing to SMUD. PG&E has requested certain waivers.

PG&E states that copies of this filing have been served upon SMUD, the California Public Utilities Commission and the California Independent System Operator Corporation.

Comment Date: March 21, 2003.

19. Midwest Independent Transmission System Operator, Inc.

[Docket No. ER03-573-000]

Take notice that on February 28, 2003 the Midwest Independent Transmission System Operator, Inc. (Midwest ISO) tendered for filing proposed revisions to Attachment C of the Midwest ISO Open Access Transmission Tariff, FERC Electric Tariff, Second Revised Volume No. 1. Applicant requests an effective date of May 29, 2003.

The Midwest ISO has requested waiver of the requirements set forth in 18 CFR 385.2010. The Midwest ISO states that it has electronically served a copy of this filing, with attachments, upon all Midwest ISO Members, Member representatives of Transmission Owners and Non-Transmission Owners, the Midwest ISO Advisory Committee participants, Policy Subcommittee participants, as well as all state commissions within the region. In addition, Midwest Iso states that the filing has been electronically posted on the Midwest ISO's Web site at http://www.midwestiso.org under the heading “Filings to FERC” for other interested parties in this matter.

Comment Date: March 21, 2003.

20. Midwest Independent Transmission System Operator, Inc.

[Docket No. ER03-574-000]

Take notice that on February 27, 2003, the Midwest Independent Transmission System Operator, Inc. (Midwest ISO) submitted for filing a Request for Authorization to reimburse Consumers Energy under Schedule 10 of the Midwest ISO Open Access Transmission Tariff (OATT) for Consumers Energy's costs incurred in the Regional Transmission Organization formation.

The Midwest ISO states that it has served copies of its filing on all affected customers. In addition, the Midwest ISO has electronically served a copy of this filing, without attachments, upon all Midwest ISO Members, Member representatives of Transmission Owners and Non-Transmission Owners, the Midwest ISO Advisory Committee participants, Policy Subcommittee participants, as well as all state commissions within the region. In addition, Midwest ISO states that the filing has been electronically posted on the Midwest ISO's Web site at http://www.midwestiso.org under the heading “Filings to FERC” for other interested parties in this matter. The Midwest ISO will provide hard copies to any interested parties upon request.

Comment Date: March 20, 2003.

21. New York State Electric & Gas Corporation

[Docket No. ER03-575-000]

Take notice that on February 28, 2003 New York State Electric & Gas Corporation (NYSEG) tendered for filing amendments to NYSEG's Rate Schedule No. 110 and 179. The amendments address, among other things, payment of certain New York Independent System Operator charges. NYSEG requests a waiver to allow the filing to become effective on March 3, 2003.

NYSEG states that copies of the filing have been served upon the New York Power Authority and customers on the list attached to the filing.

Comment Date: March 21, 2003.

22. ITC Holdings Corp., et al.; The Detroit Edison Company

[Docket No. ER03-576-000]

In cose /61,/mpliance with an order issued by the Federal Energy Regulatory Commission (Commission) on February 20, 2003, in Docket Nos. EC03-40-000 and ER03-343-000, ITC Holdings Corp., et al., 102 FERC ¶ 61,182. The Detroit Edison Company (Detroit Edison) hereby tenders for filing under section 205 of the Federal Power Act, 16 U.S.C.824d, certain service level agreements between Detroit Edison and International Transmission Company as Detroit Edison FERC Electric Rate Schedules 40 and 41.

Comment Date: March 21, 2003.

23. New England Power Pool

[Docket No. ER03-577-000]

Take notice that on February 28, 2003, the New England Power Pool (NEPOOL) Participants Committee filed for acceptance materials to permit NEPOOL to expand its membership to include Massachusetts Bay Transportation Authority (MBTA), Tractebel Energy Services, Inc. (TESI), and Pinpoint Power LLC (Pinpoint). A March 1, 2003, effective date for the commencement of participation in NEPOOL by MBTA, TESI, and Pinpoint was requested.

The Participants Committee states that copies of these materials were sent to the New England state governors and regulatory commissions and the Participants in NEPOOL.

Comment Date: March 21, 2003.

24. Midwest Independent Transmission System Operator, Inc.

[Docket No. ER03-580-000]

Take notice that on February 28, 2003, the Midwest ISO and the GridAmerica Companies submitted for filing proposed rate schedules to the Midwest ISO Open Access Transmission Tariff to accommodate the operation, on May 1, 2003, of GridAmerica LLC as an independent transmission company (ITC) within the Midwest ISO. The effectiveness of these rate schedules is necessary for the timely startup of GridAmerica within the Midwest ISO and completes the filing obligations of the Midwest ISO and the GridAmerica Participants as directed by the Commission in its December 19, 2002 Order in Ameren Services Co., et al., 101 FERC ¶ 61,320.

The Midwest ISO and GridAmerica Companies have requested that the Tariff changes and Rate Schedules become effective no later than May 1, 2003.

The Midwest ISO and GridAmerica Companies have also requested waiver of the service requirements set forth in 18 CFR 385.2010. The Midwest ISO states that it has served a copy of this filing electronically, including attachments, upon all Midwest ISO Members, Member representatives of Transmission Owners and Non-Transmission Owners, the Midwest ISO Advisory Committee participants, Policy Subcommittee participants, as well as all state commissions within the region. In addition, Midwest ISO states that the filing has been posted electronically on the Midwest ISO's Web site at http://www.midwestiso.org under the heading “Filings to FERC.”

Comment Date: March 21, 2003.

25. PJM Interconnection, L.L.C.

[Docket No. ER03-581-000]

Take notice that on February 28, 2003, PJM Interconnection, L.L.C. (PJM), filed revisions to Schedule 9 of the PJM Open Access Transmission Tariff (PJM Tariff) to: (1) Update the divisional cost assignment matrix; (2) eliminate user sign-on fees in two of the subsidiary schedules; and (3) facilitate rate changes at the beginning of calendar months other than January 1.

PJM proposes an effective date of May 1, 2003 for the tariff revisions, except for the changes to the cost assignment matrix, for which PJM requests an effective date of March 1, 2003.

PJM states that copies of this filing were served upon all PJM members and each state electric utility regulatory commission in the PJM region.

Comment Date: March 21, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-5797 Filed 3-11-03; 8:45 am]

BILLING CODE 6717-01-P